ENVIRONMENTAL PROTECTION AGENCY

40 CFR Part 63

[AD-FRL-6970-4]

RIN 2060-AH74

National Emission Standards for Hazardous Air Pollutants From the Pulp and Paper Industry

AGENCY: Environmental Protection Agency (EPA).

ACTION: Final rule; technical corrections.

SUMMARY: Under the Clean Air Act (CAA), the EPA issued a final rule on December 22, 2000 (65 FR 80755) to amend the pulp and paper national emission standards for hazardous air pollutants (Pulp and Paper NESHAP). The Pulp and Paper NESHAP limit and control hazardous air pollutants (HAP) that are known to cause or suspected to cause cancer or have other serious health or environmental effects. These technical corrections will correct an error in the amendatory instructions and correct referencing errors in the December 22, 2000 final rule amendments. Section 553 of the Administrative Procedure Act, 5 U.S.C. 553(b)(B), provides that, when an agency for good cause finds that notice and public procedure are impracticable, unnecessary or contrary to the public interest, the agency may issue a rule without providing notice and an opportunity for public comment. The EPA has determined that there is good cause for making today's rule final without prior proposal and opportunity for comment because the changes to the rule are minor technical corrections, are noncontroversial in nature, and do not substantively change the requirements of the Pulp and Paper NESHAP. Thus, notice and public procedure are unnecessary. The EPA finds that this constitutes good cause under 5 U.S.C. 553(b)(B).

EFFECTIVE DATE: May 14, 2001.

ADDRESSES: Docket No. A-92-40 contains supporting information for the Pulp and Paper NESHAPS, subsequent amendments, and this technical correction. The docket is located at the U.S. EPA, in Room M-1500, Waterside Mall (ground floor), 401 M Street SW., Washington, DC 20460 and is available for inspection and copying from 8:30 a.m. to 5:30 p.m., Monday through Friday except Federal holidays. A reasonable fee may be charged for copying.

FOR FURTHER INFORMATION CONTACT: Mr. Stephen Shedd, Emission Standards Division (MD-13), U.S. EPA, Research Triangle Park, North Carolina 27711, telephone number: (919) 541-5397, facsimile number: (919) 541-0246, electronic mail address: shedd.steve@epa.gov.

SUPPLEMENTARY INFORMATION: Regulated Entities. Entities potentially regulated by this action include:

Category | SIC | NAICS | Examples of regulated entities
Industry | 26 | 3221 | Pulp mills and integrated mills (mills that anufacture pulp and paper/paperboard) that chemically pulp wood fiber.

This table is not intended to be exhaustive, but rather provides a guide for readers regarding entities likely to be affected by this action. To determine whether this action would regulate your facility, you must carefully examine the applicability criteria in § 63.440 of the Pulp and Paper NESHAP. If you have questions regarding the applicability of this action to a particular situation or questions about compliance approaches, permitting, enforcement, and rule determinations, please contact the local or State air pollution control agency who has permitting authority for your facility.

World Wide Web (WWW). In addition to being available in the docket, an electronic copy of today's technical corrections will be available on the WWW through the Technology Transfer Network (TTN). Following signature, a copy of this action will be available on the TTN's policy and guidance page for newly proposed or promulgated rules http://www.epa.gov/ttn/oarpg. The TTN provides information and technology exchange in various areas of air pollution control. Also, a separate page on the TTN provides all the proposal and promulgation notices, support documents, and implementation information for the Pulp and Paper NESHAP which is located at http://www.epa.gov/ttn/uatw/pulp/pulppg.html. If you need more information regarding the TTN, call the TTN HELP line at (919) 541-5384.

I. Description of the Technical Corrections

The EPA promulgated the Pulp and Paper NESHAP on April 15, 1998 (63 FR 18504), with subsequent amendments for corrections and clarifications. On December 22, 2000 (65 FR 80755), we issued final rule amendments to the Pulp and Paper NESHAPS to revise the compliance demonstration procedures for combustion devices used to control pulping vent gases and for biological treatment systems used to treat pulping condensates. In the final rule text we incorrectly referenced two subparagraphs. Section 63.457(l)(1) incorrectly referenced § 63.446(e)(2)(i). The correct reference is § 63.446(e)(2) and (3). Section 63.457(l)(2) incorrectly referenced § 63.446(e)(2)(ii) and (iii). The correct reference is § 63.446(e)(2) and (4), or (e)(2) and (5). Also the amendatory instructions were incorrect for § 63.457(l) and (m)(2)(ii). The incorrect instruction is to revise the introductory text. Instead, the whole text is to be revised. This action corrects those typographical errors.

II. Administrative Requirements

Under Executive Order 12866 (58 FR 51735, October 4, 1993), this action is not a “significant regulatory action” and is therefore not subject to review by the Office of Management and Budget. Because the EPA has made a “good cause” finding that this action is not subject to notice and comment requirements under the Administrative Procedure Act or any other statute (see Summary), it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate as described in sections 203 and 204 of UMRA. This final rule also does not significantly or uniquely affect the communities of tribal governments, as specified by Executive Order 13084 (63 FR 27655, May 10, 1998). This final rule does not have substantial direct effects on the States, on the relationship between the national government and the States, as specified in Executive Order 13132 (64 FR 43255, August 10,1999). This final rule also is not subject to Executive Order 13045 (62 FR19885, April 23, 1997), because it is not economically significant.

This technical correction action does not involve technical standards; thus, the requirements of section 12(d) of the National Technology Transfer and Advancement Act of 1995 (15 U.S.C. 272 note) do not apply. The technical correction also does not involve special consideration of environmental justice related issues as required by Executive Order 12898 (59 FR 7629, February 16, 1994). In issuing this technical correction, the EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of the rule in accordance with the “Attorney General's Supplemental Guidelines for the Evaluation of Risk and Avoidance of Unanticipated Takings” issued under the executive order. This technical correction does not impose an information collection burden under the provisions of the Paperwork Reduction Act of 1995 (44 U.S.C. 3501 et seq.). The EPA's compliance with these statutes and Executive Orders for the underlying rule is discussed in the December 22, 2000 final rule amendments (65 FR 80755).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary, or contrary to the public interest. This determination must be supported by a brief statement (5 U.S.C. 808(2)). As stated previously, the EPA has made such a good cause finding, including the reasons therefor, and established an effective date of May 14, 2001. The EPA will submit a report containing this rule and other required information to the U.S. Senate, the U.S. House of Representatives, and the Comptroller General of the United States prior to publication of the rule in the Federal Register. This action is not a “major rule” as defined by 5 U.S.C. 804(2).

List of Subjects in 40 CFR Part 63

Environmental protection, Administrative practice and procedure, Air pollution control, Hazardous substances, Intergovernmental relations, Reporting and record keeping requirements.

Dated: April 18, 2001.
Robert D. Brenner,
Acting Assistant Administrator for Air and Radiation.

For the reasons stated in the preamble, title 40, chapter I, part 63 of the Code of Federal Regulations are amended as follows:

PART 63—[AMENDED]

1. The authority citation for part 63 continues to read as follows:

Authority: 42 U.S.C. 7401 et seq.

Subpart S—[Amended]

2. Section 63.457 is amended by revising paragraphs (l) and (m)(2)(ii) to read as follows:

§ 63.457 Test methods and procedures.

* * * * *

(1) Biological treatment system percent reduction and mass removal calculations. To demonstrate compliance with the condensate treatment standards specified in § 63.446(e)(2) and the monitoring requirements specified in § 63.453(j)(3) using a biological treatment system, the owner or operator shall use one of the procedures specified in paragraphs (1)(1) and (2) of this section. Owners or operators using a nonthoroughly mixed open biological treatment system shall also comply with paragraph (1)(3) of this section.

(1) Percent reduction methanol procedure. For the purposes of complying with the condensate treatment requirements specified in § 63.446(e)(2) and (3), the methanol percent reduction shall be calculated using the following equations:

Where:

R = Percent destruction.

fbio(MeOH) = The fraction of methanol removed in the biological treatment system. The site-specific biorate constants shall be determined using the appropriate procedures specified in appendix C of this part.

r = Ratio of the sum of acetaldehyde, methyl ethyl ketone, and propionaldehyde mass to methanol mass.

F(nonmethanol) = The sum of acetaldehyde, methyl ethyl ketone, and propionaldehyde mass flow rates (kg/Mg ODP) entering the biological treatment system determined using the procedures in paragraph (j)(2) of this section.

F(methanol) = The mass flow rate (kg/Mg ODP) of methanol entering the system determined using the procedures in paragraph (j)(2) of this section.

(2) Mass removal methanol procedure. For the purposes of complying with the condensate treatment requirements specified in § 63.446(e)(2) and (4), or § 63.446(e)(2) and (5), the methanol mass removal shall be calculated using the following equation:

Where:

F = Methanol mass removal (kg/Mg ODP).

Fb = Inlet mass flow rate of methanol (kg/Mg ODP) determined using the procedures in paragraph (j)(2) of this section.

fbio(MeOH) = The fraction of methanol removed in the biological treatment system. The site-specific biorate constants shall be determined using the appropriate procedures specified in appendix C of this part.

r = Ratio of the sum of acetaldehyde, methyl ethyl ketone, and propionaldehyde mass to methanol mass determined using the procedures in paragraph (1) of this section.

(3) The owner or operator of a nonthoroughly mixed open biological treatment system using the monitoring requirements specified in § 63.453(p)(3) shall follow the procedures specified in section III.B.1 of appendix E of this part to determine the borate constant, Ks, and characterize the open biological treatment system during the initial and any subsequent performance tests.

(m) * * *

(2) * * *

(ii) Compliance with the segregation requirements specified in § 63.446(c)(3) is demonstrated if the total HAP mass determined in paragraph (m)(2)(i) of this section is equal to or greater than the appropriate mass requirements specified in § 63.446(c)(3).

* * * * *

[FR Doc. 01-12048 Filed 5-11-01; 8:45 am]

BILLING CODE 6560-50-P